DEPARTMENT OF ENERGY

Federal Energy Regulatory Commission

[Docket No. RP08-218-000]

Gulfstream Natural Gas System, LLC; Notice of Petition for Temporary Waiver of Tariff Provisions and Request for Expedited Action

February 29, 2008.

Take notice that on February 28, 2008, Gulfstream Natural Gas System, LLC (Gulfstream) filed a Petition for Temporary Waiver of Tariff Provisions. Gulfstream states that the purpose of this filing is to seek waiver of section 3.3 of Rate Schedule PALS and section 6 of Gulfstream's General Terms and Conditions, so that Gulfstream can offer parking and lending services to its firm shippers at below the minimum rate for such services and for the terms described in the Petition.

Gulfstream states that it proposes to offer such parking service for the period commencing 10 gas days immediately preceding an April 2008 construction-related outage on its system through and including the last gas day of a second construction-related outage in April 2008. Gulfstream states that it proposes to offer such lending service for the period commencing on the first gas day of the first outage through and including the seventh gas day following the second outage, with the ability to receive loans of line pack gas at the proposed rate only during the outages.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment due date. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time March 6, 2008.

Kimberly D. Bose,
Secretary.

[FR Doc. E8-4497 Filed 3-6-08; 8:45 am]

BILLING CODE 6717-01-P